DEPARTMENT OF DEFENSE

Office of the Secretary

[Docket ID: DoD-2016-OS-0022]

Proposed Collection; Comment Request

AGENCY: Defense Security Service, DoD.

ACTION: Notice.

SUMMARY: In compliance with the Paperwork Reduction Act of 1995, the Center for Development of Security Excellence (CDSE) of the Defense Security Service announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 20, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Center for Development of Security Excellence, Training Division, ATTN: Brian K. Miller Curtis, 938 Elkridge Landing Road, Linthicum, MD 21090-2917 or call 1-410-689-1134.

SUPPLEMENTARY INFORMATION: Title; Associated Form; and OMB Number: Student Learning Event Evaluation Surveys, OMB Control Number 0704-XXXX.

Needs and Uses: The information collection requirement is necessary to obtain and record the experiences and evaluations of services and products from education and training customers of the Center for Development of Security Excellence. The information collection will include four surveys tailored to the delivery mode of the learning event, and the respondent will be asked to complete one survey per learning event. The number of questions asked reflects the category of the learning event completed. The four learning event categories are (a) eLearning Mode End of Course Student Feedback Survey, (b) Instructor-Led Mode End of Course Student Feedback Survey, (c) Virtual Instructor-Led Mode End of Course Student Feedback Survey, (d) Webinar Experience Survey. The feedback provided will be aggregated and analyzed for the purpose of assessing and improving the availability, effectiveness, and usability of training and education services and products made available to employees of the DoD, employees of participants in the National Industrial Security Program, employees of other Federal Departments and State, and Local Governments, and other users. No personally identifiable information is requested and anonymity of responses is maintained. Responses are aggregated for reports that are reviewed by CDSE instructors, course developers, and management. Responses are used in the conduct of continuous evaluation of education and training activities required by DoDM 3115.11, March 24, 2015, and 5 CFR 410.202.

Affected Public: Business or other for profit; Not-for-profit institutions.

Annual Burden Hours: 50,000.

Number of Respondents: 300,000.

Responses per Respondent: 1.

Annual Responses: 300,000.

Average Burden per Response: 10 minutes.

Frequency: On occasion.

Respondents are education and training services customers of the CDSE who are pursuing professional development in security or are required to complete courses by their employers. Burden is reported as an annual average, and the actual burden depends on the number of learning events attended and the mode of learning event delivery.

Dated: March 15, 2016.
Aaron Siegel,
Alternate OSD Federal Register Liaison Officer, Department of Defense.

[FR Doc. 2016-06245 Filed 3-18-16; 8:45 am]

BILLING CODE 5001-06-P